POSTAL SERVICE

Transfer of Commercial Standard Mail Parcels to Competitive Product List

AGENCY: Postal Service.™

ACTION: Notice.

SUMMARY: The Postal Service hereby provides notice that it has filed a request with the Postal Regulatory Commission to transfer commercial Standard Mail Parcels from the Mail Classification Schedule's Market Dominant Product List to its Competitive Product List.

DATES: August 25, 2010.

FOR FURTHER INFORMATION CONTACT: Nabeel Cheema, 202-268-7178.

SUPPLEMENTARY INFORMATION: On August 16, 2010, the United States Postal Service® filed with the Postal Regulatory Commission a Request of the United States Postal Service to transfer commercial Standard Mail Parcels from the Mail Classification Schedule's Market Dominant Product List to its Competitive Product List, pursuant to 39 U.S.C. 3642. Documents pertinent to this request are available at http://www.prc.gov, Docket No. MC2010-36.

Neva R. Watson,
Attorney, Legislative.

[FR Doc. 2010-21146 Filed 8-24-10; 8:45 am]

BILLING CODE 7710-12-P